DEPARTMENT OF THE INTERIOR

Bureau of Land Management

[CO-930-1430-ET; COC-28249]

Public Land Order No. 7494; Revocation of Secretarial Order Dated July 13, 1943; Colorado

AGENCY: Bureau of Land Management, Interior.

ACTION: Public Land Order.

SUMMARY: This order revokes a Secretarial Order in its entirety, as to the remaining 640 acres of public land withdrawn for the Echo Park Unit, Colorado River Storage Reclamation Project. This is a record clearing action only, since the land is within the boundary of the Dinosaur National Monument and is under National Park Service management.

EFFECTIVE DATE: August 22, 2001.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by Section 204 of the Federal Land Policy and Management Act of 1976, 43 U.S.C. 1714 (1994), it is ordered as follows:

1. The Secretarial Order dated July 13, 1943, which withdrew public land for the Echo Park Unit, Colorado River Storage Reclamation Project, is hereby revoked in its entirety:

Sixth Principal Meridian

T. 6 N., R. 103 W.,

Sec. 24.

The area described contains 640 acres in Moffat County.

2. The land is within the exterior boundary of the Dinosaur National Monument, which was established by the Presidential Proclamation dated July 14, 1938, as amended. The land will continue to be closed to all forms of appropriation under the public land laws, including mining and mineral leasing.

Dated: August 6, 2001.
J. Steven Griles,
Deputy Secretary.

[FR Doc. 01-21179 Filed 8-21-01; 8:45 am]

BILLING CODE 4310-JB-P